DEPARTMENT OF COMMERCE

Bureau of Industry and Security

15 CFR Parts 732, 734, 740, 742, 744, 748, 750, 762, 772, and 774

[Docket No. 250107-0002]

RIN 0694-XC112

Public Briefing on Framework for Artificial Intelligence Diffusion

AGENCY: Bureau of Industry and Security, U.S. Department of Commerce.

ACTION: Notification of public briefing on regulatory action.

SUMMARY: On January 10, 2025, the Office of the Federal Register posted for public inspection a Bureau of Industry and Security (BIS) interim final rule: “Framework for Artificial Intelligence Diffusion” (RIN 0694-AJ90). This document announces that, on January 15, 2025, BIS will host a virtual public briefing on this rule. This document also provides details on the procedures for participating in the virtual public briefing.

DATES: Virtual public briefing: The virtual public briefing will be held on January 15, 2025. The public briefing will begin at 12 p.m. Eastern Standard Time (EST) and conclude at 1 p.m. EST.

Deadline to register: Register by 9 a.m. EST on January 15, 2025, for virtual participation.

ADDRESSES: To attend this event virtually, register at: https://events.gcc.teams.microsoft.com/event/a0c17530-aae8-43e0-b64c-e2f9bafbbcf4@44cf3ec3-840c-4086-b7de-e3bc9a6c2db4.

Recordkeeping: A summary of the briefing will be posted for the record at: https://regulations.gov under the regulations.gov ID for this notice (BIS-2025-0001).

FOR FURTHER INFORMATION CONTACT: For questions on this virtual public briefing, contact Hillary Hess, Regulatory Policy Division, Office of Exporter Services, Bureau of Industry and Security, U.S. Department of Commerce at 202-482-2440 or by email: RPD2@bis.doc.gov.

SUPPLEMENTARY INFORMATION:

Background

With the Framework for Artificial Intelligence Diffusion interim final rule, the Commerce Department's Bureau of Industry and Security (BIS) revises the Export Administration Regulations' (EAR) controls on advanced computing integrated circuits (ICs) and adds a new control on artificial intelligence (AI) model weights for certain advanced closed-weight dual-use AI models. In conjunction with the expansion of these controls, which BIS has determined are necessary to protect U.S. national security and foreign policy interests, BIS is adding new license exceptions and updating the Data Center Validated End User authorization to facilitate the export, reexport, and transfer (in-country) of advanced computing ICs to end users in destinations that do not raise national security or foreign policy concerns.Together, these changes will cultivate secure ecosystems for the responsible diffusion and use of AI and advanced computing ICs.

Public Briefing

On January 15, 2025, BIS will host a public briefing to address the details of this rule. The virtual public briefing will be held on January 15, 2025. The virtual public briefing will begin at 12 p.m. EST and conclude at 1 p.m. EST.

Procedure for Requesting Participation

To participate in the public meeting virtually, register at: https://events.gcc.teams.microsoft.com/event/a0c17530-aae8-43e0-b64c-e2f9bafbbcf4@44cf3ec3-840c-4086-b7de-e3bc9a6c2db4 no later than 9 a.m. EST on January 15, 2025, for virtual participation. This web page will also display the agenda of the public meeting and any other necessary information.

Special Accommodations

For any special accommodation needs, please send an email to: rpd2@bis.doc.gov.

Thea D. Rozman Kendler,
Assistant Secretary of Commerce for Export Administration.

[FR Doc. 2025-00637 Filed 1-13-25; 11:15 am]

BILLING CODE 3510-33-P